DEPARTMENT OF HEALTH AND HUMAN SERVICES

Centers for Disease Control and Prevention

Health Resources and Services Administration (HRSA); CDC/HRSA Advisory Committee on HIV and STD Prevention and Treatment (CHACHSPT)

In accordance with section l0(a)(2) of the Federal Advisory Committee Act (Pub. L. 92-463), CDC and HRSA announce the following meeting of the aforementioned committee:

Times and Dates:

8 a.m.-5:30 p.m., May 11, 2010.

8 a.m.-3 p.m., May 12, 2010.

Place: JW Marriott Buckhead, 3300 Lenox Road, Atlanta, Georgia 30326, Telephone: (404) 262-3344.

Status: Open to the public, limited only by the space available. The meeting room will accommodate approximately 100 people.

Purpose: This Committee is charged with advising the Director, CDC, and the Administrator, HRSA, regarding activities related to the prevention and control of HIV/AIDS and other STDs, the support of healthcare services to persons living with HIV/AIDS, and the education of health professionals and the public about HIV/AIDS and other STDs.

Matters To Be Discussed: Agenda items include issues pertaining to: (1) The impact of the economic recession on State and local prevention, care, and treatment programs; (2) recent developments and new opportunities regarding enhancing viral hepatitis prevention in the United States; (3) a discussion of the successes and remaining challenges in expedited partner therapy implementation; (4) an update from the CHACHSPT Workgroup on HIV Care, Treatment, and Prevention in the New Millennia; and (5) the establishment of a Scientific Program Review Workgroup that will focus on the strategic realignment of funding to support priorities in sexual health and STD disparities among racial and ethnic minorities. Agenda items are subject to change as priorities dictate.

Contact Person for More Information: Margie Scott-Cseh, CDC, National Center for HIV/AIDS, Viral Hepatitis, STD, and TB Prevention, 1600 Clifton Road, NE., Mailstop E-07, Atlanta, Georgia 30333, Telephone (404) 639-8317.

The Director, Management Analysis and Services Office, has been delegated the authority to sign Federal Register Notices pertaining to announcements of meetings and other committee management activities, for both the CDC and the Agency for Toxic Substances and Disease Registry.

Dated: April 21, 2010.
Elaine L. Baker,
Director, Management Analysis and Services Office, Centers for Disease Control and Prevention (CDC).

[FR Doc. 2010-9694 Filed 4-26-10; 8:45 am]

BILLING CODE 4163-18-P